DEPARTMENT OF VETERANS AFFAIRS

Advisory Committee on Minority Veterans; Notice of Meeting

The Department of Veterans Affairs (VA) gives notice under the Public Law 92-463 (Federal Advisory Committee Act) that a meeting of the Advisory Committee on Minority Veterans will be held on March 31-April 3, 2008 at the following locations: Fayetteville, Salisbury, and Winston-Salem, North Carolina. The sessions will be open to the public.

The purpose of the Committee is to advise the Secretary on the administration of VA benefits and services to minority veterans, to assess the needs of minority veterans and to evaluate whether VA compensation, medical and rehabilitation services, outreach, and other programs are meeting those needs. The Committee will make recommendations to the Secretary regarding such activities.

On March 31, 2008, the Committee will meet from 9 a.m. to 4:15 p.m. at the Fayetteville VA Medical Center (VAMC), 2300 Ramsey Street, Fayetteville, North Carolina. The Committee will hold panel discussions with key staff members from the VAMC and with local Veterans Service Organizations (VSOs) on services and benefits delivery challenges, successes, and concerns affecting Fayetteville area veterans. Additionally, the Committee will hold a town hall meeting at the Holiday Inn I-95 located at 1944 Cedar Creek Road in Fayetteville beginning at 6:30 p.m.

On April 1, 2008, the Committee will meet from 9 am. to 12 noon at the Womack Army Medical Center (AMC) located in Building 4-2817 at Ft. Bragg for a briefing from the Womack AMC leadership, a tour of the facility, and to visit with patients. Following this visit, the Committee will depart for the Lumbee Tribe of North Carolina to meet with tribal representatives at 2709 Union Chapel Road, Pembroke, North Carolina from 2:30 p.m. to 5:30 p.m.

On April 2, 2008, the Committee will meet from 10:45 a.m. to 12:30 p.m. at the Salisbury National Cemetery, 501 Statesville Blvd, Salisbury, North Carolina for a tour and briefing. The Committee will then depart at 12:45 p.m. for Winston-Salem, North Carolina. The Committee will meet from 2 p.m. to 4 p.m. at the Winston-Salem VA Regional Office at the Federal Building, 251 North Main Street, in Winston-Salem. The Committee will hold discussions with key staff members from the Winston-Salem VA Regional Office on services and benefits, delivery challenges, and successes. Additionally, the Committee will hold a second town hall meeting at the Winston-Salem Marriott (460 N. Cherry Street) beginning at 6:30 p.m. to hear comments from the Winston-Salem area veterans. The town hall meeting will adjourn at 8:30 p.m.

On April 3, 2008, the Committee will meet from 10 a.m. to 5 p.m. at the Holiday Inn I-95, Conference Room Section III, 1944 Cedar Creek Road, Fayetteville, North Carolina. The Committee will conduct an exit briefing with each of the VA teams involved in the Committee's activities on March 31-April 2. The Committee will also work on its annual report.

The Committee will accept written comments from interested members of the public on issues outlined in the meeting agenda, as well as other issues affecting minority veterans. Such comments should be referred to the Committee at the following address: Advisory Committee on Minority Veterans, Center for Minority Veterans (00M), U.S. Department of Veterans Affairs, 810 Vermont Avenue, NW., Washington, DC 20420.

For additional information about the meeting, please contact Ms. Juanita Mullen or Mr. Ronald Sagudan at (202) 461-6191.

Dated: February 27, 2008.
By Direction of the Secretary.
E. Philip Riggin,
Committee Management Officer.

[FR Doc. 08-922 Filed 2-29-08; 8:45 am]

BILLING CODE 8320-01-M